DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than December 7, 2017.

Interested persons are invited to submit written comments regarding the subject matter of the investigations to the Director, Office of Trade Adjustment Assistance, at the address shown below, not later than December 7, 2017.

The petitions filed in this case are available for inspection at the Office of the Director, Office of Trade Adjustment Assistance, Employment and Training Administration, U.S. Department of Labor, Room N-5428, 200 Constitution Avenue NW., Washington, DC 20210.

Signed at Washington, DC, this 20th day of October 2017.
Hope D. Kinglock,
Certifying Officer, Office of Trade Adjustment Assistance.

Appendix
[73 TAA petitions instituted between 9/23/17 and 10/20/17]
TA-W | Subject firm (petitioners) | Location | Date of institution | Date of petition
93167 | HCP Davita Medical Management LLC (State/One-Stop) | Denver, CO | 09/25/17 | 09/22/17
93168 | Manpower on-site at IBM (State/One-Stop) | Boulder, CO | 09/25/17 | 09/22/17
93169 | Putnam Company, Inc. (Company) | Walworth, WI | 09/25/17 | 09/22/17
93170 | SSAB Iowa, Inc. (State/One-Stop) | Muscatine, IA | 09/25/17 | 09/22/17
93171 | Convergys (Workers) | Tamarac, FL | 09/26/17 | 09/02/17
93172 | General Foam Plastics Corp. Headquarter (State/One-Stop) | Virginia Beach, VA | 09/26/17 | 09/26/17
93173 | Itron (Workers) | Owenton, KY | 09/26/17 | 09/14/17
93174 | Total System Services, Inc., (TSYS) (Workers) | Boise, ID | 09/27/17 | 09/08/17
93175 | Del Monte Foods, Inc. (State/One-Stop) | Siloam Springs, AR | 09/28/17 | 09/27/17
93176 | Microsoft Corporation (Workers) | Wilsonville, OR | 09/28/17 | 09/27/17
93177 | Sutherland Global Services (State/One-Stop) | Rochester, NY | 09/28/17 | 09/27/17
93178 | AK Steel Corporation—Butler Works (State/One-Stop) | Butler, PA | 09/29/17 | 09/28/17
93179 | AK Steel (State/One-Stop) | Middletown, OH | 09/29/17 | 09/28/17
93180 | ArcelorMittal USA (State/One-Stop) | Cleveland, OH | 09/29/17 | 09/28/17
93181 | Bank of America (State/One-Stop) | Simi Valley, CA | 09/29/17 | 09/28/17
93182 | NLMK (Top Gun) (State/One-Stop) | Sharon, PA | 09/29/17 | 09/28/17
93183 | North Star BlueScope (State/One-Stop) | Delta, OH | 09/29/17 | 09/28/17
93184 | United States Steel Corporation (State/One-Stop) | West Mifflin, PA | 09/29/17 | 09/28/17
93185 | EVRAZ Oregon Steel Mill (Spiral Pipe Mill) (State/One-Stop) | Portland, OR | 10/02/17 | 09/29/17
93186 | Faurecia (Union) | Fraser, MI | 10/02/17 | 09/29/17
93187 | Faurecia (Union) | Sterling Heights, MI | 10/02/17 | 09/29/17
93188 | Faurecia (Union) | Fraser, MI | 10/02/17 | 09/29/17
93189 | Faurecia (Union) | Sterling Heights, MI | 10/02/17 | 09/29/17
93190 | Kellogg Rossville Eggo Plant (State/One-Stop) | Rossville, TN | 10/02/17 | 09/29/17
93191 | Kellogg Snack (State/One-Stop) | Memphis, TN | 10/02/17 | 09/29/17
93192 | Oracle (1 Pierce Place, Itasca, IL) (State/One-Stop) | Itasca, IL | 10/02/17 | 09/28/17
93193 | Sony Corp Of America (State/One-Stop) | Park Ridge, NJ | 10/02/17 | 09/29/17
93194 | Voya Financial (State/One-Stop) | Windsor, CT | 10/02/17 | 10/02/17
93195 | American Home Patient, Inc. (Workers) | Philipsburg, PA | 10/03/17 | 09/22/17
93196 | Hearth and Home Technologies (State/One-Stop) | Colville, WA | 10/03/17 | 09/28/17
93197 | The Fitzpatrick Companies Inc. DBA Country Curtains Inc. and Housatonic Cur (State/One-Stop) | Lee, MA | 10/03/17 | 10/03/17
93198 | IBM-GTS-GSAM Relationship and Problem Management (State/One-Stop) | Seattle, WA | 10/03/17 | 09/25/17
93199 | North Pacific Paper Company LLC. (Norpac) (State/One-Stop) | Longview, WA | 10/03/17 | 10/02/17
93200 | Reebok International (State/One-Stop) | Canton, MA | 10/03/17 | 10/03/17
93201 | SCA AfH Professional Hygiene (Union) | Flagstaff, AZ | 10/03/17 | 09/21/17
93202 | DexYP (Workers) | Tucker, GA | 10/04/17 | 10/03/17
93203 | Emcore Corporation (State/One-Stop) | Alhambra, CA | 10/04/17 | 10/03/17
93204 | Plews, Inc. (dba Plews & Edlemann) (Company) | Dixon, IL | 10/04/17 | 10/03/17
93205 | Lockheed Martin Commercial Engine Solutions (State/One-Stop) | San Antonio, TX | 10/05/17 | 10/04/17
93206 | Powerex, Inc. (Company) | Youngwood, PA | 10/05/17 | 10/04/17
93207 | Sohnen Enterprises Inc. (State/One-Stop) | Santa Fe, CA | 10/05/17 | 10/04/17
93208 | Deufol Sunman (State/One-Stop) | Sunman, IN | 10/06/17 | 10/04/17
93209 | Fiserv Solutions, LLC (Workers) | Walnut, CA | 10/06/17 | 10/05/17
93210 | Augusta Sportswear (State/One-Stop) | Grovetown, GA | 10/06/17 | 10/05/17
93211 | Huntsman P&A Americas LLC/Venator Corporation (State/One-Stop) | St. Louis, MO | 10/06/17 | 10/05/17
93212 | Northwestern Mutual (State/One-Stop) | Franklin, WI | 10/06/17 | 10/05/17
93213 | Windstream Corporation (State/One-Stop) | Vancouver, WA | 10/06/17 | 10/04/17
93214 | Emerson Automation Solutions, Actuation Technologies (Company) | Pelhem, AL | 10/11/17 | 10/09/17
93215 | NSi Industries LLC (State/One-Stop) | Mount Vernon, NY | 10/11/17 | 10/06/17
93216 | Pharmaceutics International, Inc. (Pii) (State/One-Stop) | Hunt Valley, MD | 10/11/17 | 10/06/17
93217 | Unlimited Seams Industrial Services (State/One-Stop) | Pulaski, TN | 10/11/17 | 10/06/17
93218 | Xerox (State/One-Stop) | Norwalk, CT | 10/11/17 | 10/06/17
93219 | Atwood Automotive (State/One-Stop) | Stockton, IL | 10/12/17 | 10/10/17
93220 | Country Curtains (State/One-Stop) | Richmond, VA | 10/12/17 | 10/10/17
93221 | MD Electronics Corporation (State/One-Stop) | Jamestown, NY | 10/12/17 | 10/10/17
93222 | Nokia (State/One-Stop) | Murray Hill, NJ | 10/12/17 | 10/10/17
93223 | Saint Gobain (State/One-Stop) | Fort Smith, AR | 10/12/17 | 10/10/17
93224 | Superior Industries International, Inc. (State/One-Stop) | Rogers, AR | 10/12/17 | 10/10/17
93225 | Automated Data Processing Inc. (State/One-Stop) | Lynwood, WA | 10/13/17 | 10/11/17
93226 | LEAR (Union) | Southfield, MI | 10/13/17 | 10/12/17
93227 | Umicore Thin Film Products (State/One-Stop) | Providence, RI | 10/13/17 | 10/11/17
93228 | Brooks Automation Inc. (State/One-Stop) | Poway, CA | 10/16/17 | 10/12/17
93229 | CenturyLink (Workers) | Carlisle, PA | 10/16/17 | 10/13/17
93230 | BP United States (State/One-Stop) | Naperville, IL | 10/17/17 | 10/13/17
93231 | Bush Industries, Inc. (Company) | Jamestown, NY | 10/17/17 | 10/13/17
93232 | JD Norman Industries (State/One-Stop) | Brooklyn, OH | 10/17/17 | 10/13/17
93233 | Commercial Sewing, Inc. (Company) | Phillipsburg, MO | 10/18/17 | 10/17/17
93234 | Knight LLC. (State/One-Stop) | Irvine, CA | 10/18/17 | 10/16/17
93235 | Gruma Corporation DBA: Mission Foods and Azteca Milling (State/One-Stop) | Irving, TX | 10/19/17 | 10/17/17
93236 | RotaDyne Molded Products (State/One-Stop) | Chicago, IL | 10/19/17 | 10/17/17
93237 | A.L. Lee Corporation (Union) | Lester, WV | 10/20/17 | 10/18/17
93238 | Appleton Coated LLC (Union) | Combined Locks, WI | 10/20/17 | 10/16/17
93239 | Kalmar Rough Terrain Center, LLC a Subsidiary of Cargotec (State/One-Stop) | Cibolo, TX | 10/20/17 | 10/18/17

[FR Doc. 2017-25530 Filed 11-24-17; 8:45 am]

BILLING CODE 4510-FN-P